FEDERAL MARITIME COMMISSION

Notice of Agreements Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 011980-003.

Agreement Name: South Atlantic Chassis Pool Agreement.

Parties: Ocean Carrier Equipment Management Association, Inc.; Consolidated Chassis Management LLC, Georgia Ports Authority; South Carolina State Ports Authority; Maersk Line A/S; Hamburg-Sud; CMA CGM S.A.; APL Co. Pte. Ltd.; American President Lines, Ltd.; COSCO Shipping Lines Co., Ltd.; Hapag-Lloyd AG; Hapag-Lloyd USA LLC; Evergreen Line Joint Service Agreement; Hyundai Merchant Marine Co., Ltd.; Orient Overseas Container Line Limited; Ocean Network Express Pte., Ltd.; MSC Mediterranean Shipping Company, S.A.; Zim Integrated Shipping Services Ltd.; and Crowley Maritime Corporation.

Filing Party: Joshua Stein; Cozen O'Connor.

Synopsis: The amendment adds Jacksonville Port Authority and North Carolina State Ports Authority as parties to the Agreement, and revises voting procedures with respect to membership in the Agreement.

Proposed Effective Date: 2/24/2020.

Location: http://fmcinet/Fmc.Agreements.Web/Public/AgreementHistory/464.

Dated: January 14, 2020.
Rachel Dickon,
Secretary.

[FR Doc. 2020-00719 Filed 1-16-20; 8:45 am]

BILLING CODE 6731-AA-P